DEPARTMENT OF ENERGY

Federal Energy Regulatory Commission

[Docket No. CP04-409-000]

Northwest Pipeline Corporation; Notice of Request Under Blanket Authorization

September 16, 2004.

Take notice that on September 3, 2004, Northwest Pipeline Corporation (Northwest) filed a prior notice request pursuant to sections 157.205 and 157.208 of the Federal Energy Regulatory Commission's regulations under the Natural Gas Act, and Northwest's blanket certificate issued in Docket No. CP82-433-000, for authorization to increase the maximum operating pressure (MOP) of its Astoria Lateral in Cowlitz County, Washington and Columbia County, Oregon from 809 psig to 932 psig in order to facilitate physical receipts of natural gas from Northwest Natural Gas Company (Northwest Natural) at the Deer Island receipt point.

Northwest's bi-directional Astoria Lateral is connected to Northwest's 30-inch mainline loop which has an MOP of 960 psig and historical operating pressures near 800 psig. The lateral is also connected to Northwest's lower pressure 26-inch mainline which is currently in an idle status at the Astoria Lateral interconnect due to Office of Pipeline Safety restrictions. To facilitate firm receipts from the Deer Island receipt point into Northwest's 30-inch mainline loop, Northwest proposes to uprate the MOP of the Astoria Lateral from 809 psig to 932 psig. Under design day conditions on Northwest facilities and assuming Northwest Natural modifies its compression facilities at the Deer Island interconnect to provide supply at 932 psig, the higher lateral operating pressures would enable Northwest to receive up to approximately 115 Mdth/d on a firm basis from the Deer Island receipt point.

Northwest states that increasing the MOP of the Astoria Lateral from 809 psig to 932 psig will not require any new facilities or any ground disturbance. Therefore, Northwest believes that the project will have no significant impact on the quality of the human environment, including sensitive environmental areas.

Any questions regarding this application should be directed to Gary Kotter, Manager, Certificates, at (801) 584-7117, Northwest Pipeline Corporation, PO Box 58900, Salt Lake City, Utah 84158.

This filing is available for review at the Commission in the Public Reference Room or may be viewed on the Commission's Web site at http://www.ferc.gov using the “e-Library” link. Enter the docket number excluding the last three digits in the docket number field to access the document. For assistance, contact FERC Online Support at FERCOnlineSupport@ferc.gov or call toll-free, (866) 208-3676, or for TTY, (202) 502-8659. Comments, protests and interventions may be filed electronically via the Internet in lieu of paper. See 18 CFR 385.2001(a)(1)(iii) and the instructions on the Commission's Web site under the “e-Filing” link. The Commission strongly encourages intervenors to file electronically.

Any person or the Commission's staff may, within 45 days after issuance of the instant notice by the Commission, file pursuant to Rule 214 of the Commission's Procedural Rules (18 CFR 855.214) a motion to intervene or notice of intervention and pursuant to section 157.205 of the Regulations under the Natural Gas Act (18 CFR 157.205) a protest to the request. If no protest is filed within the time allowed, therefore, the proposed activity shall be deemed to be authorized effective the day after the time allowed for filing a protest. If a protest is filed and not withdrawn within 30 days after the time allowed for filing a protest, the instant request shall be treated as an application for authorization pursuant to section 7 of the Natural Gas Act.

Linda Mitry,
Acting Secretary.

[FR Doc. E4-2327 Filed 9-22-04; 8:45 am]

BILLING CODE 6717-01-P